FEDERAL MARITIME COMMISSION

Ocean Transportation Intermediary License Revocations and Terminations

The Commission gives notice that the following Ocean Transportation Intermediary licenses have been revoked or terminated for the reason shown pursuant to section 19 of the Shipping Act of 1984 (46 U.S.C. 40101) effective on the date shown.

License No.: 004306N.

Name: International Transport Services, Inc.

Address: 19987 Commerce Parkway, Cleveland, OH 44130.

Date Revoked: August 9, 2013.

Reason: Failed to maintain a valid bond.

License No.: 004436NF.

Name: Wimpex, Inc.

Address: 1001 La Bore International Ct., Suite C, Vadnais Heights, MN 55110.

Date Revoked: July 29, 2013.

Reason: Voluntary Surrender of License.

License No.: 020272NF.

Name: CCT Corporation dba CCT Marine dba CCT Global Logistics.

Address: 11250 NW 25th Street, Suite 114, Miami, FL 33172.

Date Revoked: August 1, 2013.

Reason: Failed to maintain valid bonds.

License No.: 022827F.

Name: Stella Maris International Trading, Inc. dba OP Shipping.

Address: 1601 Sahlman Drive, Tampa, FL 33605.

Date Revoked: July 24, 2013.

Reason: Failed to maintain a valid bond.

License No.: 023333NF.

Name: Base Ventures International, Inc. dba Base Ventures Shipping

Address: 160 1st Street, SE., Suite 201, New Brighton, MN 55112.

Date Revoked: July 24, 2013.

Reason: Failed to maintain valid bonds.

License No.: 024023F.

Name: OES Logistics, Inc

Address: 10900 E. 183rd Street, #130, Cerritos, CA 90703.

Date Revoked: July 16, 2013.

Reason: Failed to maintain a valid bond.

James A. Nussbaumer,
Deputy Director, Bureau of Certification and Licensing.

[FR Doc. 2013-22131 Filed 9-11-13; 8:45 am]

BILLING CODE 6730-01-P